LIBRARY OF CONGRESS

Copyright Office

37 CFR Part 201

[Docket No. RM 2002-4D]

Notice of Public Hearings: Exemption to Prohibition on Circumvention of Copyright Protection Systems for Access Control Technologies

AGENCY: Copyright Office, Library of Congress.

ACTION: Notice of Amended Hearing Dates.

SUMMARY: The Copyright Office of the Library of Congress will be adding two new days of public hearings in Washington, DC on the possible exemptions to the prohibition against circumvention of technological measures that control access to copyrighted works and has cancelled two previously scheduled dates.

DATES: Public hearings will be held in Washington, DC on Thursday, May 1, 2003, beginning at 2 p.m. and on Friday, May 9, 2003, beginning at 9:30 a.m. Public hearings previously scheduled for April 15 and April 30, 2003, have been cancelled. See SUPPLEMENTARY INFORMATION for additional information.

ADDRESSES: The Washington, DC public hearings will be held at the Postal Rate Commission, 1333 H Street, NW., Third Floor, Washington, DC.

FOR FURTHER INFORMATION CONTACT: Rob Kasunic, Senior Attorney, Office of the General Counsel, Copyright GC/I&R, PO Box 70400, Southwest Station, Washington, DC 20024. Telephone (202) 707-8380; fax (202); e-mail rkas@loc.gov.

SUPPLEMENTARY INFORMATION: As previously announced, see Notice of Public Hearings, 68 FR 13652 (March 20, 2003), and Notice of Public Hearings, 68 FR 15972 (April 2, 2003), the Copyright Office of the Library of Congress is conducting public hearings in connection with its rulemaking pursuant to section 1201(a)(1) of the Copyright Act, 17 U.S.C. 1201(a)(1), which provides that the Librarian of Congress may exempt certain classes of works from the prohibition against circumventing a technological measure that controls access to a copyrighted work. For a more complete statement of the background and purpose of the rulemaking, please see Notice of Inquiry, 67 FR 63578 (October 15, 2002), and visit the Copyright Office's Web site at: http://www.copyright.gov/1201/.

The Office is modifying the schedule of public hearings. Hearings previously scheduled to take place in Washington, DC on April 15, 2003, and April 30, 2003, have been postponed and will now be held on May 1, 2003, at 2 p.m. and on May 9, 2003, at 9:30 a.m. Both hearings will be conducted at the Postal Rate Commission, 1333 H Street, NW., Third Floor, Washington, DC. A previously scheduled hearing will also be conducted at the Postal Rate Commission on May 2, 2003, at 9:30 a.m. As previously announced, hearings will also be conducted at the UCLA School of Law in Los Angeles, California on May 14-15, 2003, commencing at 9 a.m.

Dated: April 18, 2003.
David O. Carson,
General Counsel.

[FR Doc. 03-10039 Filed 4-22-03; 8:45 am]

BILLING CODE 1410-30-P